DEPARTMENT OF THE INTERIOR

Bureau of Land Management

[MT-921-03-1320-EL-P; MTM 92544]

Notice of Invitation—Coal Exploration License Application MTM 92544

AGENCY: Bureau of Land Management, Interior.

ACTION: Notice of invitation.

SUMMARY: Members of the public are hereby invited to participate with Kiewit Mining Group, Inc., in a program for the exploration of coal deposits owned by the United States of America in the following-described lands located in Prairie County, Montana, encompassing 240.00 acres:

T. 11 N., R. 49 E., P. M. M.

Sec. 21: NE¼SE¼, NW¼NE¼

Sec. 22: NE¼SE¼

Sec. 27: NW¼NW¼, SE¼NW¼

Sec. 28: SW¼NE¼

SUPPLEMENTARY INFORMATION: Any party electing to participate in this exploration program shall notify, in writing, both the State Director, Bureau of Land Management, PO Box 36800, Billings, Montana 59107-6800, and Kiewit Mining Group, Inc., PO Box 3, Decker, Montana 59025. Such written notice must refer to serial number MTM 92544 and be received no later than June 16, 2003 or 10 calendar days after the last publication of this Notice in The Terry Tribune, Terry, Montana, or The Miles City Star, Miles City, Montana, newspapers, whichever is later. This Notice will be published once a week for two (2) consecutive weeks in The Terry Tribune, Terry, Montana and The Miles City Star, Miles City, Montana.

The proposed exploration program is fully described, and will be conducted pursuant to an exploration plan to be approved by the Bureau of Land Management. The exploration plan, as submitted by Kiewit Mining Group, Inc., is available for public inspection at the Bureau of Land Management, Montana State Office, 5001 Southgate Drive, Billings, Montana, during regular business hours (9 a.m. to 4 p.m.), Monday through Friday.

FOR FURTHER INFORMATION CONTACT: Robert Giovanini, Mining Engineer, or Connie Schaff, Land Law Examiner, Branch of Solid Minerals (MT-921), Bureau of Land Management, Montana State Office, PO Box 36800, Billings, Montana 59107-6800, telephone (406) 896-5084 or (406) 896-5060, respectively.

Dated: April 15, 2003.
Randy D. Heuscher,
Chief, Branch of Solid Minerals.

[FR Doc. 03-12062 Filed 5-14-03; 8:45 am]

BILLING CODE 4310-$$-P